NUCLEAR REGULATORY COMMISSION

[Docket No. 50-346]

FirstEnergy Nuclear Operating Company; Davis-Besse Nuclear Power Station, Unit No. 1; Environmental Assessment and Finding of No Significant Impact

The U.S. Nuclear Regulatory Commission (the Commission, NRC) is considering issuance of an amendment for Facility Operating License No. NPF-3, issued to FirstEnergy Nuclear Operating Company (the licensee, FENOC), for operation of the Davis-Besse Nuclear Power Station, Unit No. 1 (DBNPS) located in Ottawa County, Ohio. Pursuant to Title 10 of the Code of Federal Regulations (10 CFR) Sections 51.21 and 51.32, the NRC is issuing this environmental assessment and finding of no significant impact. The Notice of Consideration of Issuance of Amendment was published in the Federal Register (FR) on May 22, 2008 (73 FR 29787).

Environmental Assessment

Identification of the Proposed Action

The proposed action would be a full conversion from the current technical specifications (CTS) to the improved technical specifications (ITS) consistent with improved standard technical specifications as described in “Standard Technical Specifications Babcock and Wilcox Plants,” Revision 3.0 (STS) (Agencywide Documents Access and Management System (ADAMS) Accession No. ML041800598). STS Revision 3.0 consists of the following NRC approved TS Task Force Travelers (TSTFS) TSTF-369 Revision 1, TSTF-372 Revision 4, TSTF-400 Revision 1, TSTF-439 Revision 2, TSTF-449 Revision 4, TSTF-479 Revision 0, TSTF-482 Revision 0, and TSTF-485 Revision 0. The proposed action also encompasses the beyond scope issues included in the Notice of Consideration of Issuance of Amendment.

The proposed action is in accordance with the licensee's application dated August 3, 2007 (ADAMS Accession No. ML072200448), as supplemented by letters dated May 16, 2008 (2 letters) (ADAMS Accession Nos. ML081480464 and ML081430105), July 23, 2008 (ADAMS Accession No. ML082070079), August 7, 2008 (ADAMS Accession No. ML082270658), August 26, 2008 (ADAMS Accession No. ML082600594), and September 3, 2008 (ADAMS Accession No. ML082490154). The information provided to the Nuclear Regulatory Commission (NRC) staff through the joint NRC-FirstEnergy Nuclear Operating Company improved technical specifications (ITS) conversion web page hosted by Excel Services Corporation can be found in these supplements. To expedite its review of the application, the NRC staff issued its requests for additional information (RAI) through the DBNPS ITS Conversion web page and the licensee addressed the RAI by providing responses on the web page. Entry into the database is protected so that only the licensee and NRC reviewers can enter information into the database to add RAIs (NRC) or provide responses to the RAIs (licensee); however, the public can enter the database to read the questions asked and the responses provided. To be in compliance with the regulations for written communications for license amendment requests, and to have the database on the DBNPS dockets before the amendment is issued, the licensee will submit a copy of the database in a submittal to the NRC after there are no further RAIs and before the amendment is issued. The public can access the Web site by going to http://www.excelservices.com. Once at the Web site, click on “Davis Besse” on the left side of the screen. Upon clicking the link, the Web site will inform you that “you are about to enter the DAVIS BESSE Improved Technical Specification Licensing On-Line Question and Answer Database.” At this point, click on “Click Here to continue.” This will bring you to the ITS Licensing Database. The RAIs and responses to RAIs are organized by ITS Sections 1.0, 2.0, 3.0, 3.1 through 3.9, 4.0, and 5.0. For every listed ITS section, there is a RAI which can be read by clicking on the ITS section number. The RAI question(s) and the licensee's response(s) are contained on the same web page.

The Need for the Proposed Action

The Commission's “Proposed Policy Statement on Technical Specifications Improvements for Nuclear Power Reactors” (52 FR 3788), dated February 6, 1987, contained an Interim Policy Statement that set forth objective criteria for determining which regulatory requirements and operating restrictions should be included in the technical specifications (TS). When it issued the Interim Policy Statement, the Commission also requested comments on it. Subsequently, to implement the Interim Policy Statement, each reactor vendor owners group and the NRC staff began developing STS for reactors supplied by each vendor. The Commission then published its “Final Policy Statement on Technical Specifications Improvements for nuclear Power reactors” (58 FR 39132), dated July 22, 1993, in which it addressed comments received on the Interim Policy Statement, and incorporated experience in developing the STS. The Final Policy Statement formed the basis for a revision to 10 CFR 50.36 (60 FR 36953), dated July 19, 1995, that codified the criteria for determining the content of TS. The NRC Committee to Review Generic Requirements reviewed the STS, made note of their safety merits, and indicated its support of conversion by operating plants to the STS. For DBNPS, NUREG-1430 Revision 3.0 and the following NRC approved TSTF-369 Revision 1, TSTF-372 Revision 4, TSTF-400 Revision 1, TSTF-439 Revision 2, TSTF-449 Revision 4, TSTF-479 Revision 0, TSTF-482 Revision 0, and TSTF-485 Revision 0, document the STS and form the basis for DBNPS conversion to the ITS.

The proposed changes to the CTS are based on NUREG-1430 and the guidance provided in the Final Policy Statement. The objective of this action is to rewrite, reformat, and streamline the CTS (i.e., to convert the CTS to the ITS). Emphasis was placed on human factors principles to improve clarity and understanding. The ITS Bases section has been significantly expanded to clarify and better explain the purpose and foundation of each specification. In addition to NUREG-1430, portions of the CTS were also used as the basis for the development of the DBNPS ITS. The NRC staff discussed plant-specific issues (i.e., unique design features, requirements, and operating practices) with the licensee.

Relocated specifications include those changes to the CTS that relocate certain requirements which do not meet the 10 CFR 50.36 selection criteria. These requirements may be relocated to the Bases section, updated safety analysis report, core operating limits report, operational quality assurance plan, plant procedures, or other licensee-controlled documents. Relocating requirements to licensee-controlled documents does not eliminate them, but rather, places them under more appropriate regulatory controls (i.e., 10 CFR 50.54(a)(3), and 10 CFR 50.59) to manage their implementation and future changes.

The proposed action is necessary to allow the licensee to implement the ITS. The ITS are based on standard Babcock and Wilcox TSs. They are considered an improvement over the CTS.

Environmental Impacts of the Proposed Action

The NRC has completed its safety evaluation of the proposed action and concludes that the proposed TS conversion would not increase the probability or consequences of accidents previously analyzed and would not affect facility radiation levels or facility radiological effluents due to the fact that no physical facility is being affected. The details of the staff's safety evaluation will be provided in the license amendment. Specifically, the proposed TS changes will not increase the probability or consequences of accidents. No changes are being made in the types or amounts of any effluent that may be released offsite, and there is no significant increase in the allowable individual or cumulative occupational radiation exposure. Therefore, there are no significant radiological environmental impacts associated with the proposed action.

With regard to potential nonradiological impacts, the proposed action does not have a potential to affect any historic sites because no previously undisturbed area will be affected by the proposed TS changes. It does not affect nonradiological plant effluents and has no other environmental impact. No physical facility is being affected by this change. Therefore, there are no significant nonradiological environmental impacts associated with the proposed action. Accordingly, the NRC concludes that there are no significant environmental impacts associated with the proposed action and, thus, the proposed action will not have any significant impact to the human environment.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the DBNPS, dated October 31, 1975.

Agencies and Persons Consulted

On July 14, 2008, the NRC staff consulted with the Ohio State official, Carol O'Claire of the Department of Public Safety, regarding the environmental impact of the proposed action. The State official had no comments.

Finding of No Significant Impact

On the basis of the environmental assessment, the NRC concludes that the proposed action will not have a significant effect on the quality of the human environment. Accordingly the NRC has determined not to prepare an environmental impact statement for the proposed action.

For further details with respect to the proposed action, see the licensee's letter dated August 3, 2007 (ADAMS Accession No. ML072200448), as supplemented by letters dated May 16, 2008 (2 letters) (ADAMS Accession Nos. ML081480464 and ML081430105), July 23, 2008 (ADAMS Accession No. ML082070079), August 7, 2008 (ADAMS Accession No. ML082270658), August 26, 2008 (ADAMS Accession No. ML082600594), and September 3, 2008 (ADAMS Accession No. ML082490154). The information provided to the Nuclear Regulatory Commission (NRC) staff through the joint NRC-FirstEnergy Nuclear Operating Company improved technical specifications (ITS) conversion web page hosted by Excel Services Corporation can be found in these supplements. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 8th day of October 2008.
For the Nuclear Regulatory Commission.
Cameron S. Goodwin,
Project Manager, Plant Licensing Branch III-2, Division of Operating Reactor Licensing, Office of Nuclear Reactor Regulation.

[FR Doc. E8-24899 Filed 10-17-08; 8:45 am]

BILLING CODE 7590-01-P